DEPARTMENT OF HEALTH AND HUMAN SERVICES

Administration for Community Living

Agency Information Collection Activities; Submission for OMB Review; Public Comment Request; of the ACL Generic Information Collection for the Administration on Aging Formula Grant Programs OMB Control Number 0985-New

AGENCY: Administration for Community Living, HHS.

ACTION: Notice.

SUMMARY: The Administration for Community Living (ACL) is announcing that the proposed collection of information listed above has been submitted to the Office of Management and Budget (OMB) for review and clearance as required under the Paperwork Reduction Act of 1995. This 30-day notice collects comments on the information collection requirements related to a new information collection for the ACL Generic Information Collection (Gen IC) for the Administration on Aging Formula Grant Programs.

DATES: Comments on the collection of information must be submitted electronically by 11:59 p.m. (ET) or postmarked by June 27, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, rm. 10235, Washington, DC 20503, Attn: OMB Desk Officer for ACL.

FOR FURTHER INFORMATION CONTACT: Adam Mosey (202) 795-7631 or Adam.Mosey@acl.hhs.gov.

SUPPLEMENTARY INFORMATION: In compliance with 44 U.S.C. 3507, the Administration for Community Living (ACL) has submitted the following proposed collection of information to OMB for review and clearance. As a unit of the Administration for Community Living, the Administration on Aging (AoA) provides expertise on program development, advocacy, and initiatives for older Americans and their caregivers and families. Working with State agencies, local agencies, grantees, and community providers, AoA directs programs authorized by the Older Americans Act (OAA), Elder Justice Act (EJA), and other legislation that supports older adults. Through these programs multi-year State Plans and assurances, and other financial forms are needed to provide approval and oversight of grant recipients. ACL is seeking OMB approval to add a new Gen IC to ACL's Paperwork inventory. This Gen IC will cover ACL/AoA formula grant programs for State Plans on Aging and assurances, State Plans on Adult Protective Services and assurances, and other financial forms associated with aging and APS formula grant management. Adding a Gen IC will allow for the collection of data across programmatic and financial management of the aging and APS formula grants.

Statutory Background

In 1965, Congress originally passed the Older Americans Act (OAA) in response to concerns by policymakers about a lack of community social services for older adults.

The original legislation established authority for grants to states for community planning and social services, research and development projects, and personnel training in the field of aging. Changes to the OAA were made through the Supporting Older Americans Act of 2020.

This legislation reauthorized the OAA and its programs from Federal fiscal year (FFY) 2020 through 2024. The OAA provides the foundation for the national aging network, which includes the Administration on Aging (AoA), State Units on Aging (SUA), area agencies on aging (AAA), Tribal organizations, service providers, and volunteers. SUAs are an integral part of the network responsible for developing and administering a multi-year state plan that advocates for and aids older residents, their families, their caregivers, and, in many States, for adults with disabilities.

The Elder Justice Act, passed in 2010, is the first comprehensive legislation to address the abuse, neglect, and exploitation of older adults at the Federal level. The law authorized a variety of programs and initiatives to better coordinate Federal responses to elder abuse, promote elder justice research and innovation, support Adult Protective Services systems, and provide additional protections for residents of long-term care facilities. The importance of these services at the State-level and local-level is demonstrated by the fact that states significantly leverage Older Americans Act (OAA) funds to obtain other funding for these activities.

The Coronavirus Response and Relief Supplemental Appropriations Act of 2021 and the American Rescue Plan Act provided two years of Federal funding ($188 million in each year) to support, for the first time, the nationwide APS formula grant program authorized by the Elder Justice Act of 2010. That funding was used by States to expand or develop a variety of capabilities that were necessary to meet increased needs due to the public health pandemic, and ongoing funding is necessary to maintain the improved reach and effectiveness of APS systems beyond the pandemic.

The FY 2023 Omnibus Appropriations Bill provided, for the first time, an annual appropriation of $15 million to continue providing Federal formula grants to State APS programs. This will be the first time State entities are required to develop and submit State plans under Section 2042 of the Elder Justice Act, 42 U.S.C. 1397m-1(b). However, States have developed spending plans for the formula funding received to date, consistent with 45 CFR 75.206(d), and to update those every three to five years.

This new Gen IC is for programmatic and financial management of the Aging and APS formula grants. The purpose of the State Plans is to document and provide the opportunity for public comment on achievements and planned activities for the multi-year plan period.

A wide range of constituents use or will use the State Plans to coordinate, monitor, evaluate, and improve Aging Network and APS support services by using the State Plans as a blueprint for service planning and delivery. Additionally, ACL leverages State Plans to understand the numerous services older adults use, and to utilize the information for advocating for the needs of older adults and those who use APS and for requesting additional funding. The purpose of the other financial forms that are a part of this Gen IC is to facilitate OAA formula grant management.

Financial forms provide statutorily required information regarding each State's contribution to programs to ensure compliance with legislative requirements, pertinent Federal regulations, and other applicable instructions and guidelines issued by ACL. This information will be used for Federal oversight of the Aging Programs.

Based on ACL's extensive experience working with APS systems and OAA grantees on their State plans, ACL does not anticipate a significantly greater level of detail for the development of State plans for APS.

OAA and APS grantees are required to comply with all terms and conditions contained in Notices of Award (NoA) issued by ACL. When it is determined that a grantee is not in compliance with one or more of these requirements, ACL may require a grantee to submit to ACL a plan to come into compliance under a Corrective Action Plan (CAP), and any such CAP may require ACL's prior written approval, as determined by ACL. The CAP process is intended to be collaborative. Under a CAP, a grantee and ACL will jointly identify progress milestones and a feasible timeline for the grantee to come into compliance with the applicable requirement. Grantees must make a good faith effort at achieving full compliance to continue to have permission from ACL to operate under a CAP.

Comments in Response to the 60-Day Federal Register Notice

A 60-day notice published in the Federal Register on October 18, 2023, at 88 FR 71869-71871. ACL received one public comment.

Organization | Section | Comment | Response
Commonwealth of Virginia, Department for Aging and Rehabilitative Services | Estimated Annualized Burden Table | Noted that the burden estimates for State Plans on Aging, and State Plans on APS are too low. Recommended identification of ways to reduce reporting requirements, as well as revising burden estimates. Recommended survey of states to inform future burden estimates. | ACL appreciates the comment but declines to make changes at this time.

Estimated Program Burden: ACL estimates the burden of this collection of information as follows:

Estimated Annualized Burden Table
Respondent/data collection activity | Form | Number of respondents | Number of responses per respondent | Average burden hours per response | Total burden hours
State Unit on Aging (SUA) | State Plan on Aging | 14.7 | 1 | 80 | 1,176
State Unit on Aging (SUA) | Financial Forms | 56 | 5 | 1 | 280
OAA or APS Grantee | Corrective Action Plan (CAP) | 75 | 1 | 8 | 600
Total Estimated Burden |  |  |  |  | 2,056

Dated: May 21, 2024.
Alison Barkoff,
Principal Deputy Administrator for the Administration for Community Living, performing the delegable duties of the Administrator and the Assistant Secretary for Aging.

[FR Doc. 2024-11602 Filed 5-24-24; 8:45 am]

BILLING CODE 4154-01-P